DEPARTMENT OF COMMERCE

International Trade Administration

(C-489-502)

Certain Welded Carbon Steel Standard Pipe from Turkey: Extension of Time Limit for Preliminary Results of Countervailing Duty Administrative Review

AGENCY: Import Administration, International Trade Administration, Department of Commerce.

EFFECTIVE DATE: November 7, 2005.

FOR FURTHER INFORMATION CONTACT: Kristen Johnson, AD/CVD Operations, Office 3, Import Administration, International Trade Administration, U.S. Department of Commerce, 14th Street and Constitution Avenue NW, Washington, DC 20230; telephone: (202) 482-4793.

SUPPLEMENTARY INFORMATION:

Background Information

On April 22, 2005, the U.S. Department of Commerce (“the Department”) published a notice of initiation of the administrative review of the countervailing duty order on certain welded carbon steel standard pipe from Turkey covering the period of review January 1, 2004, through December 31, 2004. See Initiation of Antidumping and Countervailing Duty Administrative Reviews, 70 FR 20862 (April 22, 2005). The preliminary results are currently due no later than December 1, 2005.

Extension of Time Limit for Preliminary Results

Section 751(a)(3)(A) of the Tariff Act of 1930, as amended (“the Act”), requires the Department to make a preliminary determination within 245 days after the last day of the anniversary month of an order or finding for which a review is requested. Section 751(a)(3)(A) of the Act further states that if it is not practicable to complete the review within the time period specified, the administering authority may extend the 245-day period to issue its preliminary results by up to 120 days.

This review involves four respondent companies¹ as well as the Government of Turkey, and over 15 programs that must be thoroughly analyzed by the Department. We have determined that it is not practicable to complete the preliminary results of this review within the 245-day period. Therefore, in accordance with section 751(a)(3)(A) of the Act, we are extending the time period for issuing the preliminary results of the review by 120 days. The preliminary results are now due no later than March 31, 2006. The final results continue to be due 120 days after publication of the preliminary results.

¹ The Borusan Group companies under review are: Borusan Birlesik Boru Fabrikalari A.S., which was renamed Borusan Mannesmann Boru Sanayi ve Ticaret A.S.; Mannesmann Boru Endustrisi T.A.S.; Istikbal Ticaret T.A.S.; and Borusan Mannesmann Boru Yatirim Holding A.S.

This notice is issued and published in accordance with sections 751(a)(3)(A) and 777(i)(1) of the Act.

Dated: November 1, 2005.
Stephen J. Claeys,
Deputy Assistant Secretary for Import Administration.

[FR Doc. 05-22148 Filed 11-4-05; 8:45 am]

BILLING CODE 3510-DS-S